Title 3—

The President

Presidential Determination No. 2004-09 of November 21, 2003

Waiving Prohibition on United States Military Assistance to Parties to the Rome Statute Establishing the International Criminal Court

Memorandum for the Secretary of State

Consistent with the authority vested in me by section 2007 of the American Servicemembers' Protection Act of 2002 (the “Act”), title II of Public Law 107-206 (22 U.S.C. 7421 et seq.), I hereby:

• Determine that it is important to the national interest of the United States to waive the prohibition of section 2007 (a) with respect to Bulgaria, Estonia, Latvia, Lithuania, Slovakia, and Slovenia, with respect to military assistance for only certain specific projects that I have decided are needed to support the process of integration of these countries into NATO, or to support Operation ENDURING FREEDOM or Operation IRAQI FREEDOM; and

• Waive the prohibition with respect to the projects referred to above for these countries.

You are authorized and directed to report this determination and the accompanying Memorandum of Justification, prepared by my Administration, to the Congress, and to arrange for publication of this determination in the Federal Register.

B

THE WHITE HOUSE,

Washington, November 21, 2003.

[FR Doc. 03-29854

Filed 11-26-03; 8:45 am]

Billing code 4710-10-P